DEPARTMENT OF ENERGY

Federal Energy Regulatory Commission

[Project No. 2079-111]

Placer County Water Agency; Notice of Availability of Environmental Assessment

In accordance with the National Environmental Policy Act of 1969 and the Federal Energy Regulatory Commission's (Commission or FERC) regulations, 18 Code of Federal Regulations (CFR) part 380, Commission staff reviewed Placer County Water Agency's application for a non-capacity amendment of the license for the Middle Fork American River Project No. 2079 (project) and have prepared an Environmental Assessment (EA). The licensee proposes to amend the license to implement the Duncan Creek Diversion Improvement Project. As proposed, the licensee would modify the diversion to facilitate instream flows and pulse flows required by the project license. The licensee proposes to modify the diversion by: (1) modifying the spillway; (2) adding a new intake bay, which would include a trash rack, fish screen, and downstream fish passage; and (3) installing two new micro-hydro units. The 223.788-megawatt project is in Placer and El Dorado counties, California on the Middle Fork of the American River, the Rubicon River, and Duncan Creek and North and South Fork Long Canyon creeks. The project occupies federal lands administered by the U.S. Forest Service.

The EA contains Commission staff's analysis of the potential environmental effects of the proposed amendment and concludes that it would not constitute a major federal action that would significantly affect the quality of the human environment.

The Commission provides all interested persons with an opportunity to view and/or print the EA via the internet through the Commission's Home Page (http://www.ferc.gov) using the “eLibrary” link. Enter the docket number, excluding the last three digits in the docket number field, to access the document. For assistance, contact FERC Online Support at FERCOnlineSupport@ferc.gov or toll-free at (866) 208-3676, or for TTY, (202) 502-8659.

You may also register online at https://ferconline.ferc.gov/eSubscription.aspx to be notified via email of new filings and issuances related to this or other pending projects. For assistance, contact FERC Online Support.

For further information, contact David Rudisail at 202-502-6376 or David.Rudisail@ferc.gov.

Dated: June 29, 2023.
Debbie-Anne A. Reese,
Deputy Secretary.

[FR Doc. 2023-14260 Filed 7-5-23; 8:45 am]

BILLING CODE 6717-01-P